DEPARTMENT OF ENERGY

Federal Energy Regulatory Commission

[Project No. 12693-001]

Sutton Hydroelectric Company, LLC

Notice of Site Visit

On February 6, 2008, Sutton Hydroelectric Company, LLC (Sutton Hydroelectric) filed a notice of intent and a preliminary application document to license its proposed Sutton Hydroelectric Project No. 12693. The project would be located at the U.S. Army Corps of Engineers' (Corps) Sutton Dam on the Elk River, in Braxton County, West Virginia. The project would occupy federal lands administered by the Corps.

On April 7, 2008, the Commission issued a Scoping Document containing a description of the proposed project and mode of operation, a preliminary list of issues to be addressed in the Commission's National Environmental Policy Act (NEPA) environmental document, and a request for information and written comments.

On October 12, 2011, at 9 a.m. (E.D.T.), as part of the NEPA scoping process, Commission staff will hold a site visit at the Sutton Dam. All participants interested in attending the site visit should meet at the upstream recreation parking lot next to the dam. All participants attending the site visit should be prepared to provide their own transportation. If you have any questions please contact Tim Konnert at (202) 502-6359 or timothy.konnert@ferc.gov.

Dated: September 28, 2011.
Kimberly D. Bose,
Secretary.

[FR Doc. 2011-25632 Filed 10-4-11; 8:45 am]

BILLING CODE 6717-01-P